FEDERAL ELECTION COMMISSION

Sunshine Act Meetings

AGENCY: Federal Election Commission.

DATE AND TIME: Thursday, October 29, 2015 at 10:00 a.m.

PLACE: 999 E Street NW., Washington, DC (ninth floor).

STATUS: This meeting will be open to the public.

ITEMS TO BE DISCUSSED:

Correction and Approval of Minutes for September 17 and October 1, 2015

Demonstration of FEC Web site Redesign, Beta Version

Draft Advisory Opinion 2015-08: Repledge

Draft Advisory Opinion 2015-09: Senate Majority PAC and House Majority PAC

Draft Advisory Opinion 2015-10: 21st Century Fox

Rulemaking Priorities and Proposals

Notice of Proposed Rulemaking on Reporting Multistate Independent Expenditures and Electioneering Communications in Presidential Primary Elections

Commission Documents/Public Disclosure Policies

Proposed Final Audit Report on the Committee for Charlotte/Charlotte DNC Host Committee

Proposed Amendment to Directive 52—Technical and Conforming Authority

Management and Administrative Matters

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shawn Woodhead Werth,
Secretary and Clerk of the Commission.

[FR Doc. 2015-27336 Filed 10-22-15; 4:15 pm]

BILLING CODE 6715-01-P